DEPARTMENT OF ENERGY

Federal Energy Regulatory Commission

Combined Notice of Filings

Take notice that the Commission has received the following Natural Gas Pipeline Rate and Refund Report filings:

Filing Instituting Proceedings

Docket Numbers: RP17-301-000.

Applicants: Alliance Pipeline L.P.

Description: Alliance Pipeline L.P. submits tariff filing per 154.204: J. Aron Permanent Relocation Jan 2017 to be effective 1/1/2017.

Filed Date: 12/29/16.

Accession Number: 20161229-5138.

Comments Due: 5 p.m. ET 1/10/17.

Docket Numbers: RP17-304-000.

Applicants: Iroquois Gas Transmission System, L.P.

Description: Iroquois Gas Transmission System, L.P. submits tariff filing per 154.204: 12/29/16 Negotiated Rates—Mercuria Energy America, Inc. (RTS) 7540-02 to be effective 1/1/2017.

Filed Date: 12/29/16.

Accession Number: 20161229-5160.

Comments Due: 5 p.m. ET 1/10/17.

Docket Numbers: RP17-305-000.

Applicants: Kern River Gas Transmission Company.

Description: Kern River Gas Transmission Company submits tariff filing per 154.204: 2017 January Negotiated Rate Agreements to be effective 1/1/2017.

Filed Date: 12/30/16.

Accession Number: 20161230-5000.

Comments Due: 5 p.m. ET 1/11/17.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 30, 2016.
Nathaniel J. Davis, Sr.,
Deputy Secretary.

[FR Doc. 2017-01923 Filed 1-27-17; 8:45 am]

BILLING CODE 6717-01-P